FEDERAL MARITIME COMMISSION

Ocean Transportation Intermeidary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 003270NF.

Name: A America Cargo Services, Inc. dba A America Container Lines.

Address: 8202 N.W. 70th Street, Miami, FL 33166.

Date Revoked: August 10, 2003.

Reason: Failed to maintain valid bonds.

License Number: 004161F.

Name: Fast Transportation Services, Inc.

Address: Lot 12 Charlyn Industrial Park, Carolina, PR 00983.

Date Revoked: June 3, 2004.

Reason: Surrendered license voluntarily.

License Number: 018631N.

Name: Hua Lian Fa Logistics, Inc.

Address: 3380 Flair Drive, Suite 236, El Monte, CA 91731.

Date Revoked: June 4, 2004.

Reason: Surrendered license voluntarily.

License Number: 002693F.

Name: Jean H. Johnson dba JIFF.

Address: 1480 Mt. Olive-Agosta Road, New Bloomington, OH 43341.

Date Revoked: June 9, 2004.

Reason: Failed to maintain a vailid bond.

License Number: 002893F.

Name: Johnnie C.F. Chin dba J C Express.

Address: 963 South Meridian Avenue, Alhambra, CA 91083.

Date Revoked: June 6, 2004.

Reason: Failed to maintain a valid bond.

License Number: 017409N.

Name: Transnation Logistics, Inc.

Address: 11222 La Cienega Blvd., Suite 475, Inglewood, CA 90304.

Date Revoked: June 4, 2004.

Reason: Failed to maintain a valid bond.

License Number: 016945NF.

Name: Universe International Transport, Inc. dba World Bright Transport, Inc.

Address: 11200 S. Hindry Avenue, Los Angeles, CA 90045.

Date Revoked: March 24, 2004.

Reason: Surrendered license voluntarily.

License Number: 017353NF.

Name: West Consolidators, Inc.

Address: 220 West Ivy Avenue, Suite 200, Inglewood, CA 90302.

Date Revoked: June 9, 2004.

Reason: Failed to maintain valid bonds.

Sandra L. Kusumoto,
Director, Bureau of Consumer Complaints and Licensing.

[FR Doc. 04-14880 Filed 6-29-04; 8:45 am]

BILLING CODE 6730-01-P